DEPARTMENT OF EDUCATION

[CFDA No. 84.215X]

Teaching American History Grant Program; Notice Inviting Grant Applications for New Awards for Fiscal Year (FY) 2001

Note to Applicants: This notice is a complete application package. Together with the statute authorizing these grants and the Education Department General Administrative Regulations (EDGAR), this notice contains all of the information, application forms, and instructions needed to apply for a Teaching American History grant under this competition. These grants are funded under Title X, Part A of the Elementary and Secondary Education Act of 1965, as amended (20 U.S.C. 8001 et seq.).

Purpose of Program: Teaching American History grants will support programs to raise student achievement by improving teachers' knowledge, understanding, and appreciation of American history. Grant awards will assist local educational agencies (LEAs), in partnership with entities that have extensive content expertise, to develop, document, evaluate, and disseminate innovative, cohesive models of professional development. By helping teachers to develop a deeper understanding and appreciation of American history as a separate subject matter within the core curriculum, these programs will improve instruction and raise student achievement.

Eligible Applicants: Local educational agencies (LEAs), working in partnership with one or more of the following entities:

• Institutions of higher education;

• Non-profit history or humanities organizations; and

• Libraries and museums.

Note: Groups of LEAs interested in submitting a single application must follow the procedures for group applications in 34 CFR 75.127-129 of EDGAR.

E-Mail Notification of Intent To Apply for Funding: The Department will be able to develop a more efficient process for reviewing grant applications if it has a better understanding of the number of LEAs that intend to apply for funding under this competition. Therefore, the Secretary strongly encourages each potential applicant to notify the Department with a short e-mail noting the intent to submit an application for funding. The e-mail need not include information regarding the content of the proposed application, only the applicant's intent to submit it. The Secretary requests that this e-mail notification be sent no later than June 22, 2001. The e-mail notification should be sent to Ms. Christine Miller at: TeachingAmericanHistory@ed.gov. Applicants that fail to provide this e-mail notification may still apply for funding.

Deadline for Transmittal of Applications: July 23, 2001.

Deadline for Intergovernmental Review: September 21, 2001.

Estimated Available Funds: $50,000,000.

Estimated Range of Awards: $350,000-$1,000,000 (total funding per grant, for a three-year project period).

Estimated Average Size: $500,000 (total for all three years).

Maximum Award Amount: The total amount of funding that an LEA may receive under this competition is $1,000,000.

Estimated Number of Awards: 75-125.

Project Period: Up to 36 months.

Please note that applicants for multi-year awards are required to provide detailed budget information for the total grant period requested. The Department will determine at the time of the initial award the funding levels for each year of the grant award. The Department of Education is not bound by any estimates in this notice.

Note: To provide the applicant the capacity to effectively plan for and carry out the comprehensive long-term activities involved in ongoing, intensive professional development, to establish partnerships to support this work, and to document and demonstrate the effectiveness of its program for future dissemination, the Secretary anticipates awarding the entire three-year grant amount for the project at the time of the initial award.

Page Limits: Applicants are strongly encouraged to limit the application narrative to no more than 20 double-spaced pages.

The following standards are preferred: (1) A “page” is 8.5″ x 11″ (one side only) with one-inch margins (top, bottom, and sides). (2) Use 12-point font for all text in the application narrative.

The page limit does not apply to the cover sheet, the one-page abstract, budget section, appendices, and forms and assurances.

Applicable Regulations: The Education Department General Administrative Regulations (EDGAR) in 34 CFR parts 75, 77, 79, 80, 81, 82, 85, 86, 97, 98 and 99.

SUPPLEMENTARY INFORMATION: Budgets must include funds for at least two project staff members to attend a two-day annual meeting of the Teaching American History Grant Program in Washington, DC, each year of the project. Applicants must include funds to cover travel and lodging expenses for these training activities during each year of the project.

Program Description: The Teaching American History grant program is funded under Part A of Title X of the Elementary and Secondary Education Act.

Students who know and appreciate the great ideas of American history are more likely to understand and exercise their civic rights and responsibilities. Their understanding of traditional American history will be enhanced if teachers make the study of history more exciting, interesting, and engaging. Students need teachers who have a thorough understanding of American history as a separate subject within the core curriculum, and incorporate into their teaching effective strategies to help students learn.

The Teaching American History Grant Program will support projects to raise student achievement in American history by improving teachers' knowledge, understanding, and appreciation for American history through intensive, ongoing professional development. These professional development activities should reflect the best available research and practice in teaching, learning, and leadership. Project activities should enable teachers to develop further expertise in American History subject content, teaching strategies, use of technologies, and other essential elements of teaching to higher standards. Projects should be driven by a coherent, long-term plan and should be evaluated on the basis of their impact on teacher effectiveness and student learning. This assessment should guide subsequent professional development efforts.

This program will demonstrate how school districts and institutions with expertise in American history can collaborate over a three-year period to ensure that teachers develop the knowledge and skills necessary to teach American history in an exciting and engaging way. Through these projects, districts will demonstrate comprehensive professional development approaches for providing high-quality American history instruction. In addition to any dissemination conducted directly by grantees, the Department intends to take the products and information resulting from this grant and share the results with other communities.

Under this program, applicants must propose projects that:

• Develop and implement high-quality in-service and/or pre-service professional development that provides educators with content and teaching skills to prepare all students to achieve to higher standards in American history; and

• Develop and implement strategies for sustained and on-going collaboration that will take place over the course of at least three years among teachers and outside experts to improve instruction in American history.

Applicants should consider projects that include at least one or more of the following:

• Supporting participation of teams of teachers in summer institutes and summer immersion activities;

• Supporting school-based collaborative efforts among teachers, including programs that facilitate teacher observation and analyses of fellow history teachers' classroom practice to improve instruction;

• Developing programs to assist new history teachers in the classroom, such as—

(a) Mentoring and coaching by trained mentor teachers over the entire grant period;

(b) Team teaching with experienced history teachers; or

(c) Providing released time for observation and consultation with experienced history teachers;

• Providing collaborative professional development experiences for veteran history teachers;

• Establishing and maintaining professional networks that provide a forum for interaction among teachers and that allow for the exchange of information;

• Providing guidance to teachers on the use of technology to provide access to primary historical documents, enable cooperative learning efforts, and develop effective presentations of historical content; and

• Creating materials documenting the implementation and benefits of the program and products for other educators to use in the course of teaching American history as a separate subject within the core curriculum.

Application Content: To apply for Teaching American History program funds, applicants must fully describe, in their project narrative, projects that:

• Further the development of high-quality professional development programs, through collaboration, designed to improve American history education programs in elementary, middle, or high schools;

• Develop materials designed to help replicate or adapt the program;

• Document the program's outcomes and benefits; and

• Develop products and services that may be used to replicate the program in other settings.

Thus, grant applications must describe existing or proposed strategies that could successfully be implemented, expanded, documented, evaluated and disseminated. Taken together, these strategies and methods should comprise a research-based comprehensive American History education improvement project that:

• Is based on reliable theory, preliminary internal or external research, and evaluation regarding effective practice;

• Has the potential to improve students' achievement in American history;

• Highlights the development of model pre-service and/or in-service professional development for history teachers;

• Involves multiple partners and effectively combines resources to create quality, sustainable programs;

• Demonstrates the feasibility of further replication and dissemination;

• Is applicable to a broad range of rural and urban schools serving poor and disadvantaged students, including those schools that are chronically low-performing;

• Makes effective use of technology to further the program goals; and

• Describes methods by which the applicant will assess the project's outcomes.

Reporting Requirements and Expected Outcomes

The Secretary requires successful applicants to submit annual performance reports that document the grantee's yearly progress toward meeting expected programmatic outcomes. The Secretary will use these reports to measure the success of the grantee's project and contribute to a broader knowledge base about high-quality, effective professional development strategies that can improve the teaching and learning of American history nationwide. In addition, grantees will be required to submit a final performance report, due no later than 90 days after the end of the project period.

Waiver of Proposed Rulemaking

In accordance with the Administrative Procedure Act (5 U.S.C. 553), it is the practice of the Secretary to offer interested parties the opportunity to comment on proposed rules. Section 437(d)(1) of the General Education Provisions Act (GEPA), however, allows the Secretary to exempt from rulemaking requirements rules governing the first grant competition under a new or substantially revised program authority (20 U.S.C. 1232(d)(1)). Funding was provided for this new initiative in the FY 2001 appropriations act, enacted December 21, 2000. The Secretary, in accordance with section 437(d)(1) of GEPA, has decided to forego public comment in order to ensure timely grant awards. These requirements will apply to the FY 2001 grant competition only.

Competition Requirements

Absolute Priority: The following requirement applies to all applicants seeking funding under this competition. An applicant must meet this requirement in order to be eligible for funding.

Collaboration With Other Agencies or Institutions

(a) Each applicant must propose to work in collaboration with one or more of the following entities:

• Institutions of higher education;

• Non-profit history or humanities organizations; or

• Libraries or museums.

(a) The applicant must identify the entity or entities with which it will collaborate and include in its application an assurance from appropriate officials of those entities that they will work with the applicant in implementing the proposal.

Invitational Priority

The Secretary is particularly interested in receiving applications from high-poverty rural and urban LEAs for projects designed to improve American history instruction in chronically low-performing schools.

Definition: In addition to definitions in the statute and EDGAR, the following definition applies:

Research-based, when used with respect to an activity or a program, means that, to the extent possible, the activity or program is based on the most rigorous theory, research, and evaluation available and effective in improving student achievement and performance and other program objectives.

Selection Criteria: The Secretary uses the following selection criteria to evaluate applications for grants under this competition. In all instances where the word “project” appears in the selection criteria, the reference to a Teaching American History program should be made.

The maximum composite score for all of these criteria is 100 points. The maximum score for each criterion is indicated in parentheses. Within each criterion, the Secretary evaluates each factor equally.

(a) Need for Project (10 points)

In determining the need for the proposed project, the Secretary considers the following factors:

(i) The extent to which the proposed project addresses the needs of disadvantaged students and students at risk of educational failure.

(ii) The extent to which specific gaps or weaknesses in services, infrastructure, or opportunities have been identified and will be addressed by the proposed project, including the nature and magnitude of those gaps or weaknesses.

(b) Significance. (20 points)

In determining the significance of the proposed project, the Secretary considers one or more of the following factors:

(i) The potential contribution of the proposed project to increased knowledge or understanding of effective strategies to improve instruction and student achievement in American History.

(ii) The likelihood that the proposed project will result in systematic improvement in the delivery of professional development to improve teacher's knowledge, understanding and appreciation of American History.

(iii) The extent to which the proposed partnership with institutions with expertise in the field will contribute to teachers' ability to instruct students in American History in an engaging manner.

(iv) The likely utility of the products (such as information, materials, processes, or techniques) that will result from the proposed project, including the potential for their being used effectively in a variety of other settings.

(c) Quality of the Project Design (25 points)

In determining the quality of the design of the proposed project, the Secretary considers one or more of the following factors:

(i) The extent to which the goals, objectives, and outcomes to be achieved by the proposed project are clearly specified and measurable.

(ii) The extent to which the professional development activities to be provided by the project are of sufficient quality, intensity, and duration to lead to improved instruction in American History.

(iii) The extent to which the project involves the collaboration of appropriate partners with expertise in the content of American History to improve teachers' knowledge and instruction.

(iv) The extent to which coherent theory or quality external and internal research and evaluation underlie the proposed project.

(d) Quality of the Management Plan (15 points)

In determining the quality of the management plan for the proposed project, the Secretary considers one or more of the following factors:

(i) The adequacy of the management plan to achieve the objectives of the proposed project on time and within budget, including clearly defined responsibilities, timelines, continuous improvement strategies and milestones for accomplishing project tasks.

(ii) The extent to which the time commitments of the project director and other key project personnel are appropriate and adequate to meet the objectives of the proposed project.

(e) Quality of Project Personnel (5 points)

In determining the quality of the project personnel, the Secretary considers one or more of the following factors:

(i) The qualifications, including relevant training and experience in American history, of key project personnel and major partners, project consultants and contractors.

(ii) The extent to which the applicant encourages applications for employment from persons who are members of groups that have traditionally been underrepresented based on race, color, national origin, gender, age, or disability.

(f) Quality of the Project Evaluation (15 points)

In determining the quality of the evaluation, the Secretary considers one or more of the following factors:

(i) The extent to which the methods of evaluation are thorough, feasible, and appropriate to the goals, objectives, and outcomes of the proposed project.

(ii) The extent to which the methods of evaluation include the use of objective performance measures that are clearly related to the intended outcomes of the project and will produce quantitative and qualitative data to the extent possible.

(iii) The extent to which the evaluation will provide guidance about effective strategies suitable for replication or testing in other settings.

(g) Adequacy of Resources (10 points)

In determining the adequacy of resources for the proposed project, the Secretary considers:

(i) The extent to which the costs are reasonable and the budget sufficient in relation to the objectives, design, and scope of project activities.

(ii) The relevance and demonstrated commitment of each partner in the proposed project to the implementation and success of the project.

Intergovernmental Review of Federal Programs

This program is subject to the requirements of Executive Order 12372 (Intergovernmental Review of Federal Programs) and the regulations in 34 CFR part 79.

The objective of the Executive order is to foster an intergovernmental partnership and to strengthen federalism by relying on State and local processes for State and local government coordination and review of proposed Federal financial assistance.

Applicants must contact the appropriate State Single Point of Contact to find out about, and to comply with, the State's process under Executive Order 12372. Applicants proposing to perform activities in more than one State should immediately contact the Single Point of Contact for each of those States and follow the procedures established in each State under the Executive order.

If you want to know the name and address of any State Single Point of Contact (SPOC) you may view the latest SPOC list on the OMB Web site at the following address: http://www.whitehouse.gov/omb/grants.

In States that have not established a process or chosen a program for review, State, area-wide, regional, and local entities may submit comments directly to the Department.

Any State Process Recommendation and other comments submitted by a State Single Point of Contact and any comments from State, area-wide, regional, and local entities must be mailed or hand-delivered by the date indicated in this notice to the following address: The Secretary, E.O. 12372'CFDA #84.215X, U.S. Department of Education, Room 7E200, 400 Maryland Avenue, SW., Washington, DC 20202-0125.

Proof of mailing will be determined on the same basis as applications (see 34 CFR 75.102). Recommendations or comments may be hand-delivered until 4:30 p.m. (Eastern Standard Time) on the date indicated in this notice. Please note that the above address is not the same address as the one to which the applicant submits its completed application. Do not send applications to the above address.

Instructions for Transmittal of Applications

(a) If an applicant wants to apply for a grant, the applicant must—

(1) Mail the original and two copies of the application on or before the deadline date to: U.S. Department of Education, Application Control Center, Attention: CFDA # 84.215X, Room 3633, Regional Office Building #3, 7th and D Streets, SW., Washington, DC

or

(2) Hand deliver the original and two copies of the application by 4:30 p.m. (Eastern Standard Time) on or before the deadline date to: U.S. Department of Education, Application Control Center, Attention: CFDA #84.215X, Room 3633, Regional Office Building #3, 7th and D Streets, SW., Washington, DC.

(b) An applicant must show one of the following as proof of mailing:

(1) A legibly dated U.S. Postal Service postmark.

(2) A legible mail receipt with the date of mailing stamped by the U.S. Postal Service.

(3) A dated shipping label, invoice, or receipt from a commercial carrier.

(4) Any other proof of mailing acceptable to the Secretary.

(c) If an application is mailed through the U.S. Postal Service, the Secretary does not accept either of the following as proof of mailing:

(1) A private metered postmark.

(2) A mail receipt that is not dated by the U.S. Postal Service.

Note: (1) The U.S. Postal Service does not uniformly provide a dated postmark. Before relying on this method, an applicant should check with its local post office.

(2) The Application Control Center will mail a Grant Application Receipt Acknowledgment to each applicant. If an applicant fails to receive the notification of application receipt within 15 days from the date of mailing the application, the applicant should call the U.S. Department of Education Application Control Center at (202) 708-9494.

(3) The applicant must indicate on the envelope and—if not provided by the Department—in Item 3 of the Application for Federal Assistance (ED 424) the CFDA number—and suffix letter, if any—of the competition under which the application is being submitted.

Application Instructions and Forms

The appendix to this notice contains all required forms and instructions, including instructions for preparing the application narrative, a statement regarding estimated public reporting burden, a notice to applicants regarding compliance with section 427 of the General Education Provisions Act (GEPA), various assurances and certifications, and a checklist for applicants.

To apply for an award under this competition, your application must be organized in the following order and include the following four parts. The parts and additional materials are as follows:

Part I: Application for Federal Assistance (ED 424, Exp. 06/30/2001) and Instructions

Part II: Budget Information-Non-Construction Programs (ED Form No. 524) and Instructions

An applicant for a multi-year project must provide a budget narrative that provides budget information for each budget period of the proposed project period.

Part III: Application Narrative

The application narrative is where an applicant addresses the selection criteria that are used by reviewers in evaluating the application. Applicants are strongly encouraged to limit the application narrative to no more than 20 double-spaced, standard-type pages. The following standards are preferred: (1) A “page” is 8.5″ x 11″ (one side only) with one-inch margins (top, bottom, and sides). (2) If using a proportional computer font, applicants are requested to use a 12-point font.

Part IV: Assurances and Certifications

a. Assurances—Non-Construction Programs (Standard Form 424B).

b. Certifications Regarding Lobbying; Debarment, Suspension, and Other Responsibility Matters; and Drug-Free Workplace Requirements (ED 80-0013) and instructions.

c. Certifications regarding Debarment, Suspension, Ineligibility and Voluntary Exclusion—Lower Tier Covered Transactions (ED 80-0014, 9/90) and instructions.

Note: ED Form 80-0014 is intended for the use of grantees and should not be transmitted to the Department.

d. Disclosure of Lobbying Activities (Standard Form LLL) (if applicable) and instructions.

An applicant may submit information on photostatic copies of the application, budget forms, assurances, and certifications as printed in this notice in the Federal Register. However, the application form, assurances, and certifications must each have an original signature. All applicants are required to submit ONE original signed application, including ink signatures on all forms and assurances, and TWO copies of the application, one bound and one unbound copy suitable for photocopying. Please mark each application as “original” or “copy.” To aid with the review of applications, the Department encourages applicants to submit two additional paper copies of the application. The Department will not penalize applicants who do not provide additional copies. No grant may be awarded unless a completed application form, including the signed assurances and certifications, has been received.

FOR FURTHER INFORMATION CONTACT: Christine Miller or Alex Stein, Teaching American History Grant Program, U.S. Department of Education, 400 Maryland Avenue, SW., Washington, DC 20202-6200. Telephone (202) 260-8766 (Christine Miller) or (202) 205-9085 (Alex Stein). E-mail: teachingamericanhistory@ed.gov. Individuals who use a telecommunications device for the deaf (TDD) may call the Federal Information Relay Service (FIRS) at 1-888-877-8339.

Individuals with disabilities may obtain this notice in an alternative format (e.g., Braille, large print, audiotape, or computer diskette) on request to the contact persons.

Electronic Access to This Document

You may view this document, as well as all other Department of Education documents published in the Federal Register, in text or Adobe Portable Document Format (PDF) on the Internet at the following site: http://www.ed.gov/legislation/FedRegister.

To use PDF you must have Adobe Acrobat Reader, which is available free at this site. If you have questions about using PDF, call the U.S. Government Printing Office (GPO) toll free, at 1-888-293-6498; or in the Washington, DC area at (202) 512-1530.

Note: The official version of this document is the document published in the Federal Register. Free Internet access to the official edition of the Federal Register and the Code of Federal Regulations is available on GPO Access at: http://www.access.gpo.gov/nara/index.html

Program Authority: 20 U.S.C. 8001 et seq.

Dated: May 17, 2001.
Thomas M. Corwin,
Acting Deputy Assistant Secretary for Elementary and Secondary Education.

Appendix

Instructions for the Application Narrative

The narrative is the section of the application where the selection criteria used by reviewers in evaluating the application are addressed. The narrative must encompass each function or activity for which funds are being requested. Before preparing the application narrative, an applicant should read carefully the description of the program and the selection criteria the Secretary uses to evaluate applications.

Applicants should note the preferable page limits for the application narrative stated in this notice under Page Limits.

1. Begin with a one-page Abstract summarizing the proposed Teaching American History project, including a description of project objectives and activities and partners in the application. Also include a short description of the population to be served by the project.

2. Include a table of contents listing the parts of the narrative in the order of the selection criteria and the page numbers where the parts of the narrative are found. Be sure to number the pages.

3. Describe how the applicant meets the absolute priority.

4. Describe fully the proposed project in light of the selection criteria in the order in which the criteria are listed in the application package. Do not simply paraphrase the criteria.

5. Provide the following in response to the attached “Notice to all Applicants:” (1) A reference to the portion of the application in which information appears as to how the applicant is addressing steps to promote equitable access and participation, or (2) a separate statement that contains that information.

6. If the application is from a group, attach the group's agreement. When applying for funds as a group, such as a consortium, individual eligible applicants must enter into an agreement signed by all members of the group. The group's agreement must detail the activities each member of the group plans to perform, and must bind each member to every statement and assurance made in the group's application. (The designated applicant must submit the group's agreement with its application.)

7. Applicants may include supporting documentation as appendices to the narrative. This material should be concise and pertinent to the competition. Note that the Secretary considers only information contained in the application in ranking applications for funding consideration. Letters of support sent separately from the formal application package are not considered in the review by the technical review panels.

8. Attach copies of all required assurances and forms.

Estimated Public Reporting Burden

According to the Paperwork Reduction Act of 1995, you are not required to respond to a collection of information unless it displays a valid OMB Control Number. The valid OMB control number for this information collection is 1810-0639, (Expiration Date: 05/31/2004). The time required to complete this information collection is estimated to average sixty-five (65) hours per response, including the time to review instructions, search existing data resources, gather the data needed, and complete and review the information collection. If you have any comments concerning the accuracy of the time estimate or suggestions for improving this form, please write to: Christine Miller, Teaching American History Grant Program, U.S. Department of Education, 400 Maryland Avenue SW, FB-6, 5C126, Washington, DC 20202-6200.

If you have comments or concerns regarding the status of your individual submission of this form, write directly to: Christine Miller, Teaching American History Grant Program, U.S. Department of Education, 400 Maryland Avenue SW, FB-6, 5C126, Washington, DC 20202-6200.

Checklist for Applicants

The following forms and other items must be included in the application in the order listed below:

_1. Application for Federal Assistance (ED 424)

_2. Budget Information—Non-Construction Programs ED Form No. 524) and budget narrative.

_3. Application Narrative, including information that addresses section 427 of the General Education Provisions Act (see the section entitled “NOTICE TO ALL APPLICANTS”), and relevant appendices.

_4. Group agreement, if applicable.

_5. Assurances—Non-Construction Programs (SF 242B).

_6. Certifications Regarding Lobbying; Debarment, Suspension, and Other Responsibility Matters; and Drug-Free Workplace Requirements (ED 80-0013).

_7. Disclosure of Lobbying Activities (Standard Form LLL).

BILLING CODE 4001-01-U

[FR Doc. 01-12931 Filed 5-22-01; 8:45 am]

BILLING CODE 4001-01-C